DEPARTMENT OF COMMERCE

National Oceanic and Atmospheric Administration

Hydrographic Services Review Panel Meeting

AGENCY: National Ocean Service, National Oceanic and Atmospheric Administration (NOAA), Department of Commerce.

ACTION: Notice of open meeting.

SUMMARY: The Hydrographic Services Review Panel (HSRP) was established by the Secretary of Commerce to advise the Under Secretary of Commerce for Oceans and Atmosphere on matters related to the responsibilities and authorities set forth in section 303 of the Hydrographic Services Improvement Act of 1998, its amendments, and such other appropriate matters that the Under Secretary refers to the Panel for review and advice.

Date and Time: The meeting will be held Monday, August 14, 2006, from 1 p.m. to 5:30 p.m., and Tuesday, August 15, 2006, from 8 a.m. to 4:30 p.m.

Location: The Hotel Captain Cook, 4th and K Streets, Anchorage, Alaska 99501; Telephone: 907-276-6000 or 800-843-1950. The times and agenda topics are subject to change. Refer to the HSRP Web site listed below for the most current meeting agenda.

FOR FURTHER INFORMATION CONTACT: Captain Steven Barnum, NOAA, Designated Federal Official (DFO), Office of Coast Survey, National Ocean Service (NOS), NOAA (N/CS), 1315 East West Highway, Silver Spring, Maryland 20910; Telephone: 301-713-2770, Fax: 301-713-4019; e-mail: Hydroservices.panel@noaa.gov or visit the NOAA HSRP Web site at http://nauticalcharts.noaa.gov/ocs/hsrp/hsrp.htm.

SUPPLEMENTARY INFORMATION: The meeting will be open to the public and public comment periods will be scheduled at various times throughout the meeting. These comment periods will be part of the final agenda that will be published before the meeting date on the HSRP Web site listed above. Each individual or group making a verbal presentation will be limited to a total time of five (5) minutes. Written comments (at least 30 copies) should be submitted to the DFO by August 4, 2006. Written comments received by the DFO after August 4, 2006, will be distributed to the HSRP, but may not be reviewed before the meeting date. Approximately 25 seats will be available for the public, on a first-come, first-served basis.

Matters to be Considered: (1) Deliberations on issues relevant to: (1) Alaska shipping, cruise industry, coastal resources management, ocean policy, and recreational boating; (2) geodesy and shoreline mapping; (3) navigational services program updates; (4) historical overview and status update on the reauthorization of the Hydrographic Services Improvement Act; (5) Panel deliberations on the “NOAA Hydrographic Survey Priorities;” and (6) public statements.

Dated: July 7, 2006.
Steven R. Barnum,
Director, Office of Coast Survey, National Ocean Service, National Oceanic and Atmospheric Administration.

[FR Doc. E6-11260 Filed 7-14-06; 8:45 am]

BILLING CODE 3510-JE-P